DEPARTMENT OF ENERGY

Golden Field Office; Supplemental Announcement to the Broad Based Solicitation for Financial Assistance Applications Involving Research, Development and Demonstration for the Office of Energy Efficiency and Renewable Energy; Feasibility Studies of Potential Applications of Renewable Energy Technologies at Tribal Colleges and Universities

AGENCY: U.S. Department of Energy.

ACTION: Supplemental Announcement 07 to the Broad Based Solicitation for Financial Assistance Applications DE-PS36-00GO10482.

SUMMARY: The U.S. Department of Energy (DOE), pursuant to the DOE Financial Assistance Rules, 10 CFR 600.8, is announcing its intention to solicit applications for Feasibility Studies of Potential Applications of Renewable Energy Technologies at Tribal Colleges and Universities. Financial assistance awards issued under this Supplemental Announcement will be cooperative agreements.

DATES: The solicitation will be issued on or about March 21, 1999.

ADDRESSES: Copies of the Solicitation once issued, can be obtained from the Golden Field Office Home page at http://www.eren.doe.gov/golden/solicitations.html. DOE will issue written copies of the solicitation upon request.

SUPPLEMENTARY INFORMATION: Under this Supplemental Announcement, DOE is soliciting Applications from tribal colleges and universities to conduct feasibility and planning studies for the development and installation of renewable energy technology hardware on or adjacent to their campuses, and integrated with educational programs and science curricula. Eligible technologies include: photovoltaics (PV), wind, biomass power, hydro, concentrating solar power, solar thermal systems (i.e., active or passive solar technologies for space or water heating, or power generation technologies), geothermal electricity generation, geothermal resources for direct heating applications, and other renewable hybrid systems. Applications may include, but are not limited to, the use of renewable power for direct electrical generation, building uses, water pumping, or other grid connected or off-grid power systems. Successful applications should demonstrate the potential for replicability, as well as the educational, economic, and environmental benefits.

DOE will only consider applications from tribal colleges and universities as the prime applicant. A letter of commitment from an authorized representative (preferably the President) of the tribal college or university, as well as from each major participant is required as a part of the application (see Section I.C. Technical Volume Structure).

The overall objective of this program is the installation of renewable energy technologies at tribal colleges and universities. A secondary objective is the development and implementation of educational programs, with an emphasis on experiential teaching at the tribal colleges and universities to educate students and their communities on the use and benefits of these technologies. The program is planned for two phases. This initial solicitation (Phase I) is to support feasibility studies conducted by tribal colleges and universities and their selected partners and subcontractors to determine the most appropriate renewable energy technologies to be implemented and how it will be integrated with an educational program. Phase II will focus on the renewable energy hardware installation and implementation of the related educational program. It is anticipated that Phase II implementation will begin in FY 2001, if funding is appropriated. At the end of Phase I, an additional selection process will be used to determine eventual Phase II awards. Only Phase I recipients will be eligible to compete for 2 to 8 Phase II awards. All Phase I recipients will be required to submit a feasibility study report, including findings.

Awards under this Supplemental Announcement will be Cooperative Agreements, with a term of twelve months for the Phase I feasibility study. Subject to funding availability, the total DOE funding available for all Phase I studies under this Supplemental Announcement will be approximately $700,000. DOE anticipates selecting 5 to 12 applications for award under this Supplemental Announcement. As part of the Phase I deliverables, and subject to availability of FY 2001 funds, each Phase I recipient may submit an application for Phase II (FY 2001) funding.

No minimum cost share is required in order to be considered for award under this Phase I solicitation.

Solicitation Number DE-PS36-00GO10482, in conjunction with this Supplemental Announcement 07, will include complete information on the program including technical aspects, funding, application preparation instructions, application evaluation criteria, and other factors that will be considered when selecting projects for funding. Issuance of the solicitation is planned for March 21, 2000. Questions should be submitted in writing to: Ruth E. Adams, DOE Golden Field Office, 1617 Cole Boulevard, Golden, CO 80401-3393; transmitted via facsimile to Ruth E. Adams at (303) 275-4788; or electronically to ruth_adams@nrel.gov. The solicitation, once issued can be obtained from the Golden Field Office Home Page at http://www.eren.doe.gov/golden/solicitations.html. All responsible sources may submit an application and all timely applications will be considered.

FOR FURTHER INFORMATION CONTACT: Ruth E. Adams, Contracting Officer, at 303-275-4722, e-mail ruth_adams@nrel.gov.

Issued in Golden, Colorado, on March 14, 2000.
Ruth E. Adams,
Contracting Officer.

[FR Doc. 00-7069 Filed 3-21-00; 8:45 am]

BILLING CODE 6450-01-P